INTERNATIONAL TRADE COMMISSION

[Investigation No. 731-TA-1205 (Final)]

Silica Bricks and Shapes From China

Determination

On the basis of the record ¹ developed in the subject investigation, the United States International Trade Commission (Commission) determines, pursuant to section 735(b) of the Tariff Act of 1930 (19 U.S.C. 1673d(b)) (the Act), that an industry in the United States is not materially injured or threatened with material injury, and the establishment of an industry in the United States is not materially retarded, by reason of imports from China of silica bricks and shapes, provided for in subheadings 6902.20.10 (statistical reporting number 6902.20.1020), 6902.20.50 (statistical reporting number 6902.20.5020), and 6909.19.50 (statistical reporting number 6909.19.5095) of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted this investigation effective November 15, 2012, following receipt of a petition filed with the Commission and Commerce by Utah Refractories Corp., Lehi, UT. The final phase of the investigation was scheduled by the Commission following notification of a preliminary determination by Commerce that imports of silica bricks and shapes from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of July 30, 2013 (78 FR 45968). The hearing was held in Washington, DC, on November 21, 2013, and all persons who requested the opportunity were permitted to appear in person or by counsel.

The Commission transmitted its determination in this investigation to the Secretary of Commerce on January 9, 2014. The views of the Commission are contained in USITC Publication 4443 (January 2014), entitled Silica Bricks and Shapes from China: Investigation No. 731-TA-1205 (Final).

Issued: January 10, 2014.
By order of the Commission.
Lisa R. Barton,
Acting Secretary to the Commission.

[FR Doc. 2014-00702 Filed 1-15-14; 8:45 am]

BILLING CODE 7020-02-P